DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the twenty-second meeting of the International Civil Aviation Organization's (ICAO) Dangerous Goods Panel (DGP) to be held October 5-16, 2009 in Montreal, Canada.

DATES: Tuesday, September 29, 2009, 1-3 p.m.

ADDRESSES: The meeting will be held at the DOT Headquarters, West Building, 1200 New Jersey Avenue, SE., Washington, DC 20590.

Conference Call Capability/Live Meeting Information: Conference call-in and “live meeting” capability will be provided for this meeting. Specific information on call-in and live meeting access will be posted when available at http://www.phmsa.dot.gov/hazmat/regs/international.

FOR FURTHER INFORMATION CONTACT: Mr. Duane Pfund, Director, Office of International Standards, Office of Hazardous Materials Safety, Department of Transportation, Washington, DC 20590; (202) 366-0656.

SUPPLEMENTARY INFORMATION: The primary purpose of this public meeting will be to discuss draft U.S. positions on the proposals that will be considered during the 22nd Meeting of the ICAO DGP. Agenda items include:

Agenda Item 1: Development of proposals, if necessary, for amendments to Annex 18—Safe Transport of Dangerous Goods by Air.

Agenda Item 2: Development of recommendations for amendments to the Technical Instructions for the Safe Transport of Dangerous Goods by Air (Doc 9284) for incorporation in the 2011-2012 Edition.

Agenda Item 3: Development of recommendations for amendments to the Supplement to the Technical Instructions for the Safe Transport of Dangerous Goods by Air (Doc 9284) for incorporation in the 2011-2012 Edition.

Agenda Item 4: Amendments to the Emergency Response Guidance for Aircraft Incidents involving Dangerous Goods (Doc 9481) for incorporation in the 2011-2012 Edition.

Agenda Item 5: Resolution, where possible, of the non-recurrent work items identified by the Air Navigation Commission or the panel.

5.1: Approvals.

5.2: Exemptions.

5.3: Review of provisions for dangerous goods relating to batteries:

(a) Lithium batteries.

(b) Battery-powered devices.

(c) Battery-powered mobility aids.

5.4: Reformatting of the packing instructions.

5.5: Carriage of dangerous goods on helicopters.

Agenda Item 6: Other business.

For more information on the ICAO DGP and to check for updates on information related to this public meeting visit PHMSA's International Standards Web site at http://www.phmsa.dot.gov/hazmat/regs/international. To download papers which will be considered by the Panel visit the DGP Web site at http://www.icao.int/anb/FLS/DangerousGoods/flsdg.cfm.

Robert A. Richard,
Deputy Associate Administrator for Hazardous Materials Safety.

[FR Doc. E9-20344 Filed 8-25-09; 8:45 am]

BILLING CODE 4910-60-M